DEPARTMENT OF TRANSPORTATION

Federal Aviation Administration

14 CFR Part 39

[Docket No. FAA-2006-25658; Directorate Identifier 2006-NM-054-AD]

RIN 2120-AA64

Airworthiness Directives; Airbus Model A318, A319, A320, and A321 Airplanes

AGENCY: Federal Aviation Administration (FAA), Department of Transportation (DOT).

ACTION: Supplemental notice of proposed rulemaking (NPRM); reopening of comment period.

SUMMARY: The FAA is revising an earlier supplemental NPRM for an airworthiness directive (AD) that applies to certain Airbus Model A318, A319, A320, and A321 airplanes. The first supplemental NPRM would have superseded an existing AD that currently requires repetitive detailed inspections of the inboard flap trunnions for any wear marks and of the sliding panels for any cracking at the long edges, and corrective actions if necessary. These actions resulted from reports of wear damage to the inboard flap trunnions after incorporation of the terminating modification, and certain airplanes were inadvertently excluded from the applicability in the original NPRM. This new action revises the first supplemental NPRM by adding airplanes that were recently added to the type certificate data sheet. We are proposing this second supplemental NPRM to detect and correct wear of the inboard flap trunnions, which could lead to loss of flap surface control and consequently result in the flap detaching from the airplane. A detached flap could result in damage to the tail of the airplane.

DATES: We must receive comments on this supplemental NPRM by September 10, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Airbus, 1 Rond Point Maurice Bellonte, 31707 Blagnac Cedex, France, for service information identified in this second supplemental NPRM.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to submit any relevant written data, views, or arguments regarding this proposal. Send your comments to an address listed in the ADDRESSES section. Include the docket number “Docket No. FAA-2006-25658; Directorate Identifier 2006-NM-054-AD” at the beginning of your comments. We specifically invite comments on the overall regulatory, economic, environmental, and energy aspects of this second supplemental NPRM. We will consider all comments received by the closing date and may amend this second supplemental NPRM in light of those comments.

We will post all comments submitted, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Discussion

The FAA issued a supplemental notice of proposed rulemaking (NPRM) (“the first supplemental NPRM”) to amend 14 CFR part 39 to include an AD that supersedes AD 2006-04-06, amendment 39-14487 (71 FR 8439, February 17, 2006). The existing AD applies to certain Airbus Model A318, A319, A320, and A321 airplanes. The first supplemental NPRM was published in the Federal Register on March 6, 2007 (72 FR 9880). The first supplemental NPRM proposed to continue to require repetitive detailed inspections of the inboard flap trunnions for any wear marks and of the sliding panels for any cracking at the long edges, and corrective actions if necessary. The first supplemental NPRM also proposed to revise the original NPRM by including airplanes that were inadvertently excluded from the applicability.

Actions Since First Supplemental NPRM Was Issued

Since we issued the first supplemental NPRM, Airbus has issued Service Bulletin A320-57-1133, Revision 02, including Appendix 01, dated December 12, 2006. (We referred to Airbus Service Bulletin A320-57-1133, Revision 01, dated August 7, 2006, in the first supplemental NPRM as the appropriate source of service information for accomplishing certain proposed actions.) The changes in Revision 02 are minor, and no additional work is necessary for airplanes modified by the previous issues; Revision 02 adds airplanes and recommends contacting Airbus for certain corrective actions. We have changed the applicable sections in the second supplemental NPRM to refer to Revision 02 as the appropriate source of service information for accomplishing certain proposed actions. In addition, we have changed paragraph (j) of the second supplemental NPRM to provide credit for accomplishing applicable actions before the effective date of the AD in accordance with Revision 01 of that service bulletin.

Comments

We have considered the following comments on the first supplemental NPRM.

Request to Expand Applicability

Airbus asks that we add Model A321-212, -213, and -232 airplanes to the applicability specified in paragraph (c) of the first supplemental NPRM. Airbus states that the AD should be applicable to all Model A318, A319, A320, and A321 airplanes that have received Airbus Modification 26495 in production or Airbus Service Bulletin A320-27-1117 in service.

We agree with Airbus for the reasons provided, and because those airplanes were added to Revision 9 of the U.S. type certificate data sheet (TCDS) on March 23, 2007. In addition, Airbus Model 318-121 and -122 airplanes were added to Revision 10 of the TCDS on May 31, 2007; therefore, we have also added those airplanes to the applicability in the second supplemental NPRM. We have changed paragraph (c) of the second supplemental NPRM accordingly.

Request To Remove Certain Requirements

Airbus asks that we remove the new requirement specified in paragraph (h) of the first supplemental NPRM. Airbus states that it does not concur with the new requirement to apply Airbus Service Bulletin A320-27-1117, Revision 04, dated November 6, 2001, on Model A321-211 and -231 airplanes, except those on which Airbus Modification 26495 has been accomplished in production. Airbus notes that “* * * the modification introduced by Service Bulletin A320-27-1117 has not been confirmed satisfactory; this is the reason why additional inspections have been defined in Service Bulletin A320-57-1133 and a final fix to this last inspection under definition.” Airbus adds that Airbus Service Bulletin A320-27-1117 was issued to provide terminating action of another inspection specified in Airbus Service Bulletin A320-27-1108, Revision 04, dated November 22, 1999, for Model A321 airplanes. Airbus notes that if there are still Model A321-211 and -231 airplanes that are pre-modification 26495 on which Airbus Service Bulletin A320-27-1117 has not been done, the inspections specified in Airbus Service Bulletin A320-27-1108, Revision 04, should continue to be performed until the final fix is available.

We agree with Airbus, we have determined that the subject modification is not adequate to address the identified unsafe condition. Therefore, for that reason, and the reasons provided by Airbus, we have removed paragraphs (h) and (i) from the second supplemental NPRM and reidentified subsequent paragraphs accordingly.

Difference Between Proposed Rule and Service Bulletin

Service Bulletin A320-57-1133, Revision 02, specifies to contact the manufacturer for instructions on how to repair certain conditions, but this proposed AD would require repairing those conditions using a method approved by the FAA, or the European Aviation Safety Agency (EASA) (or its delegated agent), or the Direction Générale de l'Aviation Civile (DGAC) (or its delegated agent). In light of the type of repair that would be required to address the unsafe condition, and consistent with existing bilateral airworthiness agreements, we have determined that, for this proposed AD, a repair approved by the FAA, the EASA, or the DGAC would be acceptable for compliance with this proposed AD.

Clarification of Alternative Method of Compliance (AMOC) Paragraph

We have revised this action to clarify the appropriate procedure for notifying the principal inspector before using any approved AMOC on any airplane to which the AMOC applies.

FAA's Determination and Proposed Requirements of the Second Supplemental NPRM

Certain changes discussed above expand the scope of the first supplemental NPRM; therefore, we have determined that it is necessary to reopen the comment period to provide additional opportunity for public comment on the second supplemental NPRM.

Costs of Compliance

The following table provides the estimated costs for U.S. operators to comply with the second supplemental NPRM.

Estimated Costs
Action | Work hours | Average labor rate per hour | Parts | Cost per airplane | Number of U.S.-registered airplanes | Fleet cost
Modification in AD 2006-04-06 | 14 | $80 | The manufacturer states that it will supply required parts to operators at no cost | $1,120 | 768 | $860,160.
Detailed inspection in AD 2006-04-06 | 2 | 80 | None | $160, per inspection cycle | 768 | $122,880, per inspection cycle.
General visual inspection (new proposed action) | 1 | 80 | None | $80, per inspection cycle | 754 | $60,320, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14487 (71 FR 8439, February 17, 2006) and adding the following new airworthiness directive (AD):

AIRBUS: Docket No. FAA-2006-25658; Directorate Identifier 2006-NM-054-AD.

Comments Due Date

(a) The FAA must receive comments on this AD action by September 10, 2007.

Affected ADs

(b) This AD supersedes AD 2006-04-06.

Applicability

(c) This AD applies to the airplanes identified in paragraphs (c)(1) and (c)(2) of this AD, certificated in any category.

(1) Airbus Model A318-111, -112, -121, and -122 airplanes on which Airbus Modification 26495 has been incorporated in production.

(2) All Airbus Model A319-111, -112, -113, -114, -115, -131, -132, and -133 airplanes; Model A320-111 airplanes; Model A320-211, -212, -214, -231, -232, and -233 airplanes; and Model A321-111, -112, -131, -211, -212, -213, -231, and -232 airplanes.

Unsafe Condition

(d) This AD results from a determination that certain airplanes must be included in the applicability of the AD, and that the inspection type must be revised. We are issuing this AD to detect and correct wear of the inboard flap trunnions, which could lead to loss of flap surface control and consequently result in the flap detaching from the airplane. A detached flap could result in damage to the tail of the airplane.

Compliance

(e) You are responsible for having the actions required by this AD performed within the compliance times specified, unless the actions have already been done.

Restatement of Requirements of AD 2006-04-06

Modification

(f) For Model A319-111, -112, -113, -114, -115, -131, -132, and -133 airplanes; Model A320-111 airplanes; Model A320-211, -212, -214, -231, -232, and -233 airplanes; and Model A321-111, -112, and -131 airplanes; except those on which Airbus Modification 26495 has been accomplished in production: Within 18 months after January 8, 2001 (the effective date of AD 2000-24-02, amendment 39-12009), modify the sliding panel driving mechanism of the flap drive trunnions, in accordance with Airbus Service Bulletin A320-27-1117, Revision 02, dated January 18, 2000; or Revision 04, dated November 6, 2001. As of the effective date of this AD, only Revision 04 may be used.

Note 1: Accomplishment of the modification required by paragraph (f) of this AD before January 8, 2001, in accordance with Airbus Service Bulletin A320-27-1117, dated July 31, 1997; or Revision 01, dated June 25, 1999; is acceptable for compliance with that paragraph.

Detailed Inspections

(g) For Model A318-111 and -112 airplanes; Model A319-111, -112, -113, -114, -115, -131, -132, and -133 airplanes; Model A320-111 airplanes; Model A320-211, -212, -214, -231, -232, and -233 airplanes; and Model A321-111, -112, and -131 airplanes: At the latest of the applicable times specified in paragraphs (g)(1), (g)(2), and (g)(3) of this AD, do a detailed inspection of the inboard flap trunnions for any wear marks and of the sliding panels for any cracking at the long edges, and do any corrective actions, as applicable, by accomplishing all of the applicable actions specified in the Accomplishment Instructions of Airbus Service Bulletin A320-57-1133, dated July 28, 2005; Revision 01, dated August 7, 2006; or Revision 02, dated December 12, 2006; except as provided by paragraph (n) of this AD. As of the effective date of this AD, only Revision 02 may be used. Any corrective actions must be done at the compliance times specified in Figures 5 and 6, as applicable, of the service bulletin; except as provided by paragraphs (k), (l), and (m) of this AD. Repeat the inspection thereafter at intervals not to exceed 4,000 flight hours until the inspection required by paragraph (h) of this AD is done.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Before accumulating 4,000 total flight hours on the inboard flap trunnion since new.

(2) Within 4,000 flight hours after accomplishing paragraph (f) of this AD.

(3) Within 600 flight hours after March 24, 2006 (the effective date of AD 2006-04-06).

New Requirements of This AD

General Visual Inspections

(h) For all airplanes: At the time specified in paragraph (h)(1) or (h)(2) of this AD, as applicable, do a general visual inspection of the inboard flap trunnions for any wear marks and of the sliding panels for any cracking at the long edges, and do all applicable corrective actions by accomplishing all of the applicable actions specified in the Accomplishment Instructions of Airbus Service Bulletin A320-57-1133, Revision 02, dated December 12, 2006; except as provided by paragraphs (i) and (o) of this AD. All corrective actions must be done at the compliance times specified in Figures 5 and 6, as applicable, of the service bulletin; except as provided by paragraphs (l), (m), and (n) of this AD. Repeat the inspection thereafter at intervals not to exceed 4,000 flight hours. Accomplishing the general visual inspection required by this paragraph terminates the detailed inspection requirement of paragraph (g) of this AD.

Note 3: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) For airplanes on which the detailed inspection required by paragraph (g) of this AD has been done before the effective date of this AD: Inspect before accumulating 4,000 total flight hours on the inboard flap trunnion since new, or within 4,000 flight hours after accomplishing the most recent inspection required by paragraph (g) of this AD, whichever occurs later.

(2) For airplanes other than those identified in paragraph (h)(1) of this AD: Inspect at the latest of the applicable times specified in paragraphs (h)(2)(i), (h)(2)(ii), and (h)(2)(iii) of this AD.

(i) Before accumulating 4,000 total flight hours on the inboard flap trunnion since new.

(ii) Within 4,000 flight hours after accomplishing paragraph (f) of this AD.

(iii) Within 600 flight hours after the effective date of this AD.

(i) Where Airbus Service Bulletin A320-57-1133, Revision 02, dated December 12, 2006, specifies to contact the manufacturer for instructions on how to repair certain conditions: Before further flight, repair using a method approved by the Manager, International Branch, ANM-116, Transport Airplane Directorate, FAA; or the European Aviation Safety Agency (EASA) (or its delegated agent), or the Direction Générale de l'Aviation Civile (DGAC) (or its delegated agent).

Actions Done Using Previous Issues of Service Information

(j) Accomplishing the modification required by paragraph (f) of this AD before the effective date of this AD, in accordance with Airbus Service Bulletin A320-27-1117, Revision 03, dated August 24, 2001, is acceptable for compliance with the requirements of that paragraph.

(k) Accomplishing the inspections and corrective actions required by paragraph (h) of this AD before the effective date of this AD, in accordance with Airbus Service Bulletin A320-57-1133, dated July 28, 2005; or Revision 01, dated August 7, 2006; is acceptable for compliance with the requirements of that paragraph.

Compliance Times

(l) Where Airbus Service Bulletins A320-57-1133, dated July 28, 2005; Revision 01, dated August 7, 2006; and Revision 02, dated December 12, 2006; specify replacing the sliding panel at the next opportunity if damaged, replace it within 600 flight hours after the inspection required by paragraph (g) or (h) of this AD, as applicable.

(m) If any damage to the trunnion is found during any inspection required by paragraph (g) or (h) of this AD, before further flight, do the corrective actions specified in Airbus Service Bulletin A320-57-1133, Revision 01, dated August 7, 2006; or Revision 02, dated December 12, 2006.

Grace Period Assessment

(n) Where Airbus Service Bulletins A320-57-1133, dated July 28, 2005; Revision 01, dated August 7, 2006; and Revision 02, dated December 12, 2006; specify contacting the manufacturer for a grace period assessment after replacing the trunnion or flap, contact the Manager, International Branch, ANM-116, Transport Airplane Directorate, FAA; the Direction Générale de l'Aviation Civile (or its delegated agent for the grace period assessment.

No Reporting Requirement

(o) Although Airbus Service Bulletins A320-57-1133, dated July 28, 2005; Revision 01, dated August 7, 2006; and Revision 02, dated December 12, 2006; specify to submit certain information to the manufacturer, this AD does not include that requirement.

Alternative Methods of Compliance (AMOCs)

(p)(1) The Manager, International Branch, ANM-116, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(q) French airworthiness directive F-2005-139, dated August 3, 2005, also addresses the subject of this AD.

Issued in Renton, Washington, on July 31, 2007.
Ali Bahrami,
Manager, Transport Airplane Directorate, Aircraft Certification Service.

[FR Doc. E7-16094 Filed 8-15-07; 8:45 am]

BILLING CODE 4910-13-P